DEPARTMENT OF ENERGY

Federal Energy Regulatory Commission

[Docket No. EC05-2-000, et al.]

American Electric Power Service Corporation, et al.; Electric Rate and Corporate Filings

October 8, 2004.

The following filings have been made with the Commission. The filings are listed in ascending order within each docket classification.

1. American Electric Power Service Corporation

[Docket No. EC05-2-000]

Take notice that on October 7, 2004, American Electric Power Service Corporation, (AEP) on behalf of its electric utility subsidiary, AEP Texas Central Company, formerly known as Central Power and Light Company (TCC), submitted an application pursuant to section 203 of the Federal Power Act for authorization of a disposition of jurisdictional facilities whereby TCC seeks authorization to transfer certain jurisdictional facilities associated with TCC's 25.2 percent undivided ownership interest in the 2,500 MW South Texas Project nuclear plant (TCC Interest). AEP states that TCC proposes to sell 13.2 percent of the TCC Interest to Texas Genco, L.P. and 12 percent of the TCC Interest to City of San Antonio acting by and through the City Public Service Board of San Antonio.

Comment Date: 5 p.m. Eastern Time on October 28, 2004.

2. Sheboygan Power, LLC

[Docket No. EG05-3-000]

Take notice that on October 6, 2004, Sheboygan Power, LLC (Sheboygan Power) filed an application for a determination that it is an exempt wholesale generator. Sheboygan Power states that it will construct and own a natural gas-fired generating facility, located in the County of Sheboygan, Wisconsin, consisting of three gas fired turbine generators to provide approximately 450 MW net electrical output, with only two turbine generators to be placed in service initially, and to provide approximately 300 MW net electrical output.

Comment Date: 5 p.m. Eastern Time on October 26, 2004.

3. Cargill-Alliant, LLC

[Docket No. ER97-4273-013]

Take notice that on October 6, 2004, Cargill-Alliance, LLC (Cargill-Alliant) Incorporated, submitted a compliance filing pursuant to the Commission's Letter Order issued August 17, 2004 in Docket No. ER97-4273-012.

Comment Date: 5 p.m. Eastern Time on October 27, 2004.

4. AES Huntington Beach, L.L.C.

[Docket No. ER98-2184-007]

Take notice that on October 5, 2004, AES Huntington Beach, L.L.C. (AES Huntington Beach) submitted for filing its triennial market power update in compliance with Acadia Power Partners, LLC, et al., 107 FERC ¶ 61,168 (2004). As part of this triennial market power update, AES Huntington Beach also submitted for filing amendments to its market-based rate tariff implementing six (6) new market behavior rules adopted by the Commission in Investigation of Terms and Conditions of Public Utility Market-Based Rate Authorization, 105 FERC 61,218 (2003). AES Huntington Beach also submitted for approval its second revision to FERC Electric Tariff, Original Volume No. 1, and its first revision to its Statement of Policy and Code of Conduct.

Comment Date: 5 p.m. Eastern Time on October 26, 2004.

5. AES Alamitos, L.L.C.

[Docket No. ER98-2185-007]

Take notice that on October 5, 2004, AES Alamitos (AES Alamitos) submitted for filing its triennial market power update in compliance with Acadia Power Partners, LLC, et al., 107 FERC ¶ 61,168 (2004). As part of this triennial market power update, AES Alamitos also submitted for filing amendments to its market-based rate tariff implementing six (6) new market behavior rules adopted by the Commission in Investigation of Terms and Conditions of Public Utility Market-Based Rate Authorization, 105 FERC 61,218 (2003). AES Alamitos also submitted for approval its second revision to FERC Electric Tariff, Original Volume No. 1, and its first revision to its Statement of Policy and Code of Conduct.

Comment Date: 5 p.m. Eastern Time on October 26, 2004.

6. AES Redondo Beach, L.L.C.

[Docket No. ER98-2186-007]

Take notice that on October 5, 2004, AES Redondo Beach, L.L.C. (AES Redondo Beach) submitted for filing its triennial market power update in compliance with Acadia Power Partners, LLC, et al., 107 FERC ¶ 61,168 (2004). As part of this triennial market power update, AES Redondo Beach also submitted for filing amendments to its market-based rate tariff implementing six (6) new market behavior rules adopted by the Commission in an order issued November 17, 2003, in Docket No. EL01-118-000, Investigation of Terms and Conditions of Public Utility Market-Based Rate Authorization, 105 FERC 61,218 (2003). AES Redondo Beach also submitted for approval its second revision to FERC Electric Tariff, Original Volume No. 1, and its first revision to its Statement of Policy and Code of Conduct.

Comment Date: 5 p.m. Eastern Time on October 26, 2004.

7. GWF Energy LLC

[Docket No. ER01-2233-003]

Take notice that, on October 4, 2004, GWF Energy LLC (GWF) amended its compliance filing submitted on July 19, 2004, pursuant to the Commission's letter order issued July 18, 2004 in GWF Energy LLC, Docket No. ER01-2233-000 and pursuant to Investigation of Terms and Conditions of Public Utility Market-Based Rate Authorizations, 105 FERC ¶ 61,218 (2003). GWF states that the amendment to the compliance filing consists of a market share and pivotal supplier analysis in support of its updated market power analysis and updated tariff sheets.

GWF states that copies of the filing were served on parties on the official service list in the above-captioned proceeding.

Comment Date: 5 p.m. Eastern Time on October 25, 2004.

8. PJM Interconnection, L.L.C.

[Docket No. ER03-262-000]

Take notice that on October 4, 2004, PJM Interconnection, L.L.C. (PJM) submitted its compliance with the Commission's August 4, 2004 order in Docket No. ER02-262-002, et al., 108 FERC ¶ 61,140, concerning the collection of Commission annual charges billed to PJM associated with loads in the Commonwealth Edison Company and American Electric Power East Operating Companies transmission zones.

PJM states that copies of the filing were served on all persons on the Commission's official service list for this proceeding.

Comment Date: 5 p.m. Eastern Time on October 25, 2004.

9. New York Independent System Operator, Inc.

[Docket No. ER04-449-004]

Take notice that on October 5, 2004, the New York Independent System Operator, Inc. (NYISO) and the New York Transmission Owners filed a joint Compliance Filing in connection with the Commission's August 6, 2004 Order in Docket No. ER04-449-000, et al.

NYISO states that it has served a copy of this filing on all parties in Docket No. ER04-449-000. The NYISO requests a waiver of the requirements of 18 CFR 385.2010 so as to permit it to electronically serve a copy of this filing on the official representatives of each of its customers, on each participant in its stakeholder committees, on the New York State Public Service Commission and on the electric utility regulatory agencies in New Jersey and Pennsylvania.

Comment Date: 5 p.m. Eastern Time on October 26, 2004.

10. Midwest Independent Transmission System Operator, Inc.

[Docket No. ER04-691-007 and EL04-104-000]

Take notice that on October 5, 2004, the Midwest Independent Transmission System Operator, Inc. (Midwest ISO) submitted a compliance filing pursuant to the Commission's Order issued August 6, 2004, Midwest Independent Transmission System Operator, Inc., 108 FERC ¶ 61,163 (2004).

Midwest ISO has also requested a waiver of the service requirements set forth in 18 CFR 385.2010. The Midwest ISO has electronically served a copy of this filing, with its attachments, upon all Midwest ISO Members, Member representatives of Transmission Owners and Non-Transmission Owners, the Midwest ISO Advisory Committee participants, Policy Subcommittee participants, as well as all state commissions within the region. In addition, the filing has been electronically posted on the Midwest ISO's Web site at http://www.midwestiso.org under the heading “Filings to FERC” for other interested parties in this matter. The Midwest ISO will provide hard copies to any interested party upon request.

Comment Date: 5 p.m. Eastern Time on October 26, 2004.

11. Vermont Electric Cooperative, Inc.

[Docket No. ER04-694-003]

Take notice that on October 6, 2004, Vermont Electric Cooperative, Inc. (VEC) submitted its refund compliance report pursuant to the Commission's September 7, 2004 Order Accepting Market-Based Tariff in the Docket No. ER04-694-000, et al., Vermont Electric Cooperative, Inc., 108 FERC ¶ 61,223 (2004).

Comment Date: 5 p.m. Eastern Time on October 27, 2004.

12. The Detroit Edison Company, DTE East China, LLC, DTE River Rouge No. 1 LLC

[Docket No. ER04-948-002]

Take notice that on October 4, 2004, DTE East China, LLC, DTE River Rouge No. 1, LLC and the Detroit Edison Company (Applicants) submitted a compliance filing pursuant to a Commission order issued on July 16, 2004 in Docket No. ER04-948-000.

Applicants state that copy of the filing was served on parties on the official service list in the above-captioned proceeding.

Comment Date: 5 p.m. Eastern Time on October 26, 2004.

13. PJM Interconnection, L.L.C.

[Docket No. ER04-1123-001]

Take notice that on October 5, 2004, PJM Interconnection, L.L.C. (PJM), amended its August 12, 2004 filing in Docket No. ER04-123-000 by submitting an amended executed interim interconnection service agreement among PJM, Wind Park Bear Creek, L.L.C., and PPL Electric Utilities Corporation (Wind Park ISA) and to identify differences between the Wind Park ISA and the form of interim interconnection service agreement in Attachment O-1 and form of interconnection service agreement in Attachment O of the PJM Open Access Transmission Tariff as modified by tariff revisions accepted by the Commission in PJM Interconnection, L.L.C., 108 FERC ¶ 61,025 (2004).

PJM states that copies of this filing were served upon the parties to the agreement and the state regulatory commissions within the PJM region, and all parties on the official service list compiled by the Secretary in this proceeding.

Comment Date: 5 p.m. Eastern Time on October 26, 2004.

14. Consolidated Edison Energy, Inc.

[Docket No. ER04-1196-001]

Take notice that on October 1, 2004, Consolidated Edison Energy, Inc. (CEE), filed an amendment to its filing submitted on August 18, 2004 in Docket No. ER04-1196-000. First Revised Sheet No. 1 of CEE's Market-Based Rate Tariff, First Revised Volume No. 1, superceding Original Volume No. 1, as well as the red-lined version of that Tariff Sheet.

Comment Date: 5 p.m. Eastern Time on October 22, 2004.

15. Boston Edison Company

[Docket No. ER05-15-000]

Take notice that on October 4, 2004, Boston Edison Company (Boston Edison) tendered for filing First Revised Rate Schedule FERC No. 179 (First Revised Rate Schedule) between Boston Edison and the Town of Braintree Electric Light Department (Braintree). Boston Edison requests an effective date of March 1, 2003.

Boston Edison states that copies of the filing were served upon Braintree and the Department of Telecommunications and Energy for the Commonwealth of Massachusetts.

Comment Date: 5 p.m. Eastern Time on October 25, 2004.

16. American Transmission Systems, Incorporated

[Docket No. ER05-16-000]

Take notice that on October 4, 2004, American Transmission Systems, Incorporated (ATSI) tendered for filing a proposed Schedule 2.1—Revenue Requirement for Reactive Power. ATSI stated that Schedule 2.1, which allows collection of revenues associated with the supply of Reactive Supply Service within the FirstEnergy Control Area by multiple generation suppliers and the distribution of all revenues collected in a fair and equitable manner, is being modified to accommodate a new revenue requirement for the supply of Reactive Supply Service by FirstEnergy Solutions Corp. ATSI requests an effective date of October 15, 2004.

Comment Date: 5 p.m. Eastern Time on October 25, 2004.

17. Trans-Elect NTD Path 15, LLC

[Docket No. ER05-17-000]

Take notice that on October 4, 2004, Trans-Elect NTD Path 15 LLC (NTD Path 15) submits for filing the materials necessary under FPA section 205 to establish its transmission revenue requirement. In addition, NTD Path 15 submits its FERC TO Tariff as a participating transmission owner in California Independent System Operator Corporation. NTD Path 15 requests an effective date of December 4, 2004.

NTD Path 15 states that copies of this filing were served on all interested parties.

Comment Date: 5 p.m. Eastern Time on October 25, 2004.

18. Appalachian Power Company

[Docket No. ER05-19-000]

Take notice that on October 5, 2004, Appalachian Power Company (APCo) tendered for filing with the Commission thirteen Notices of Cancellation, designated as indicated below, that cancel the Electric Service Agreements/Rate Schedules under which APCo currently provides service to the following wholesale customers:

Notice of Cancellation
Customer | Rate schedule designation
Black Diamond Power Company (Elkhurst) | First Revised Rate Schedule—FERC No. 103
Black Diamond Power Company (East Hartland) | First Revised Rate Schedule—FERC No. 104
Black Diamond Power Company (Sophia) | First Revised Rate Schedule—FERC No. 105
Elk Power Company (Clay) | First Revised Rate Schedule—FERC No. 106
Elkhorn Public Service Company (Elkhorn) | First Revised Rate Schedule—FERC No. 107
Elkhorn Public Service Company (Crozier #4) | First Revised Rate Schedule—FERC No. 108
Kimball Light & Water Company | First Revised Rate Schedule—FERC No. 109
United Light & Power Company | First Revised Rate Schedule—FERC No. 110
Union Power Company (Rhodell) | First Revised Rate Schedule—FERC No. 111
Union Power Company (Mullens and Pierpont) | First Revised Rate Schedule—FERC No. 112
War Light & Power Company | First Revised Rate Schedule—FERC No. 113
Elk Power Company (Reed's Fork) | First Revised Rate Schedule—FERC No. 114

APCo requests that the Notices of Cancellation be made effective December 1, 2004.

APCo states that a copy of its filing was served upon the Public Service Commission of West Virginia and the customers set out above.

Comment Date: 5 p.m. Eastern Time on October 26, 2004.

19. Florida Power & Light Company

[Docket No. ER05-21-000]

Take notice that on October 5, 2004, Florida Power & Light Company (FPL) submitted Amendment No. 3 to the St. Lucie Nuclear Reliability Exchange Agreement between Florida Power & Light Company and Florida Municipal Power Agency. FPL states that the revisions set forth in Amendment No. 3 to the St. Lucie Nuclear Reliability Exchange Agreement between Florida Power & Light Company and Florida Municipal Power Agency reflect the clarification of the treatment of costs associated with pension benefits and post-retirement benefits other than pensions for the period 2003 and beyond.

FPL states that copies of the filing were served upon Florida Municipal Power Agency.

Comment Date: 5 p.m. Eastern Time on October 26, 2004.

20. Florida Power & Light Company

[Docket No. ER05-22-000]

Take notice that on October 5, 2004, Florida Power & Light Company (FPL) submitted Amendment No. 2 to the St. Lucie Nuclear Reliability Exchange Agreement between Florida Power & Light Company and Orlando Utilities Commission. FPL states that the revisions set forth in Amendment No. 2 to the St. Lucie Nuclear Reliability Exchange Agreement between Florida Power & Light Company and Orlando Utilities Commission reflect the clarification of the treatment of costs associated with pension benefits and post-retirement benefits other than pensions for the period 2003 and beyond.

FPL states that the copies of the filing were served upon Orlando Utilities Commission.

Comment Date: 5 p.m. Eastern Time on October 26, 2004.

21. AES Placerita, Inc.

[Docket No. ER05-23-000 and ER00-33-005]

Take notice that on October 5, 2004, AES Placerita, Inc. (Placerita) submitted its triennial market power update pursuant to the Commission's Order in Docket No. ER0033-000 and Acadia Power Partners, LLC, et al., 107 FERC ¶ 61,168 (2004). In addition, pursuant to section 205 of the Federal Power Act, Placerita submitted its third revision to FERC Electric Rate Schedule, Original Volume No. 1, and its second revision to its code of conduct reflecting new corporate affiliations.

Comment Date: 5 p.m. Eastern Time on October 26, 2004.

22. Virginia Electric and Power Company

[Docket No. ER05-24-000]

Take notice that on October 6, 2004, Virginia Electric and Power Company (Dominion) tendered for filing a new Appendix E-1 for the Service Agreement under its open access transmission tariff, FERC Electric Tariff Second Revised Volume No. 5. Dominion states that the service agreement is Dominion's Service Agreement for Network Integration Transmission Service and Network Operating Agreement with the North Carolina Electric Membership Corporation (NCEMC). Dominion also states that the revised service agreement adds charges to reimburse Dominion for costs associated with providing a new Aulander Delivery Point for Roanoke Electric Cooperative. Dominion requests an effective date of October 7, 2004.

Dominion states that copies of the filing were served upon the NCEMC, the North Carolina Utilities Commission and the Virginia State Corporation Commission.

Comment Date: 5 p.m. Eastern Time on October 26, 2004.

23. Roger Agnelli

[Docket No. ID-4167-000]

Take notice that on October 1, 2004, Roger Agnelli filed, tendered for filing an Application for Authority to Hold Interlocking Positions under section 305 (b) of the Federal Power Act, 16 U.S.C. 825d (b) (2000), and Part 45 of the Commission's Regulations.

Comment Date: 5 p.m. Eastern Time on November 1, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, N.E., Washington, DC 20426.

This filing is accessible on-line at http://www.ferc.gov, using the “eLibrary” link and is available for review in the Commission's Public Reference Room in Washington, DC. There is an “eSubscription” link on the web site that enables subscribers to receive email notification when a document is added to a subscribed docket(s). For assistance with any FERC Online service, please e-mail FERCOnlineSupport@ferc.gov, or call (866) 208-3676 (toll free). For TTY, call (202) 502-8659.

Magalie R. Salas,
Secretary.

[FR Doc. E4-2663 Filed 10-15-04; 8:45 am]

BILLING CODE 6717-01-P